DEPARTMENT OF COMMERCE

National Institute of Standards and Technology

National Fire Protection Association (NFPA): Request for Comments on NFPA's Codes and Standards

AGENCY: National Institute of Standards and Technology, Commerce.

ACTION: Notice.

SUMMARY: Since 1896, the National Fire Protection Association (NFPA) has accomplished its mission by advocating scientifically based consensus codes and standards, research, and education for safety related issues. NFPA's National Fire Codes®, which holds over 270 documents, are administered by more than 225 Technical Committees comprised of approximately 7,000 volunteers and are adopted and used throughout the world. NFPA is a nonprofit membership organization with approximately 80,000 members from over 70 nations, all working together to fulfill the Association's mission.

The NFPA process provides ample opportunity for public participation in the development of its codes and standards. All NFPA codes and standards are revised and updated every three to five years in Revision Cycles that begin twice each year and that take approximately two years to complete. Each Revision Cycle proceeds according to a published schedule that includes final dates for all major events in the process. The process contains five basic steps that are followed both for developing new documents as well as revising existing documents. These steps are: Calling for Proposals; Publishing the Proposals in the Report on Proposals; Calling for Comments on the Committee's disposition of the Proposals and these Comments are published in the Report on Comments; having a Technical Report Session at the NFPA Annual Meeting; and finally, the Standards Council Consideration and Issuance of documents.

Note: Under new rules effective Fall 2005, anyone wishing to make Amending Motions on the Technical Committee Reports (ROP and ROC) must signal their intention by submitting a Notice of Intent to Make a Motion by the Deadline of October 23, 2009. Certified motions will be posted by November 20, 2009. Documents that receive notice of proper Amending Motions (Certified Amending Motions) will be presented for action at the annual June 2010 Association Technical Meeting. Documents that receive no motions will be forwarded directly to the Standards Council for action on issuance.

For more information on these new rules and for up-to-date information on schedules and deadlines for processing NFPA Documents, check the NFPA Web site at http://www.nfpa.org or contact NFPA Codes and Standards Administration.

The purpose of this notice is to request comments on the technical reports that will be published in the NFPA's 2009 Fall Revision Cycle. The publication of this notice by the National Institute of Standards and Technology (NIST) on behalf of NFPA is being undertaken as a public service; NIST does not necessarily endorse, approve, or recommend any of the standards referenced in the notice.

DATES: Sixty reports are published in the 2009 Fall Revision Cycle Report on Proposals and will be available on December 29, 2008. Comments received on or before March 6, 2009, will be considered by the respective NFPA Committees before final action is taken on the proposals.

ADDRESSES: The 2009 Fall Revision Cycle Report on Proposals is available and downloadable from NFPA's Web site— http://www.nfpa.org or by requesting a copy from the NFPA, Fulfillment Center, 11 Tracy Drive, Avon, Massachusetts 02322. Comments on the report should be submitted to Secretary, Standards Council, NFPA, 1 Batterymarch Park, Quincy, Massachusetts 02269-7471.

FOR FURTHER INFORMATION CONTACT: Christian Dubay, Secretary, Standards Council, NFPA, 1 Batterymarch Park, Quincy, Massachusetts 02269-7471, (617) 770-3000.

SUPPLEMENTARY INFORMATION:

Background

The National Fire Protection Association (NFPA) develops building, fire, and electrical safety codes and standards. Federal agencies frequently use these codes and standards as the basis for developing Federal regulations concerning safety. Often, the Office of the Federal Register approves the incorporation by reference of these standards under 5 U.S.C. 552(a) and 1 CFR Part 51.

Request for Comments

Interested persons may participate in these revisions by submitting written data, views, or arguments to Christian Dubay, Secretary, Standards Council, NFPA, 1 Batterymarch Park, Quincy, Massachusetts 02269-7471. Commenters may use the forms provided for comments in the Reports on Proposals. Each person submitting a comment should include his or her name and address, identify the notice, and give reasons for any recommendations. Comments received on or before March 6, 2009, for the 2009 Fall Revision Cycle Report on Proposals will be considered by the NFPA before final action is taken on the proposals.

Copies of all written comments received and the disposition of those comments by the NFPA committees will be published as the 2009 Fall Revision Cycle Report on Comments by August 28, 2009. A copy of the Report on Comments will be sent automatically to each commenter.

2009 Fall Revision Cycle

Report on Proposals*

NFPA 10 | Standard for Portable Fire Extinguishers | P
NFPA 11 | Standard for Low-, Medium-, and High-Expansion Foam | P
NFPA 13E | Recommended Practice for Fire Department Operations in Properties Protected by Sprinkler and Standpipe Systems | P
NFPA 14 | Standard for the Installation of Standpipes and Hose Systems | P
NFPA 18 | Standard on Wetting Agents | P
NFPA 37 | Standard for the Installation and Use of Stationary Combustion Engines and Gas Turbines | P
NFPA 45 | Standard on Fire Protection for Laboratories Using Chemicals | P
NFPA 53 | Recommended Practice on Materials, Equipment, and Systems Used in Oxygen-Enriched Atmospheres | P
NFPA 70B | Recommended Practice for Electrical Equipment Maintenance | P
NFPA 91 | Standard for Exhaust Systems for Air Conveying of Vapors, Gases, Mists, and Noncombustible Particulate Solids | P
NFPA 120 | Standard for Fire Prevention and Control in Coal Mines | P
NFPA 122 | Standard for Fire Prevention and Control in Metal/Nonmetal Mining and Metal Mineral Processing Facilities | P
NFPA 204 | Standard for Smoke and Heat Venting | P
NFPA 211 | Standard for Chimneys, Fireplaces, Vents, and Solid Fuel-Burning Appliances | P
NFPA 214 | Standard on Water-Cooling Towers | P
NFPA 255 | Standard Method of Test of Surface Burning Characteristics of Building Materials | W
NFPA 276 | Standard Method of Fire Tests for Determining the Heat Release Rate of Combustible Buildings Assemblies or Above Deck Roofing Components | N
NFPA 326 | Standard for the Safeguarding of Tanks and Containers for Entry, Cleaning, or Repair | P
NFPA 329 | Recommended Practice for Handling Releases of Flammable and Combustible Liquids and Gases | P
NFPA 405 | Standard for the Recurring Proficiency of Airport Fire Fighters | P
NFPA 408 | Standard for Aircraft Hand Portable Fire Extinguishers | P
NFPA 409 | Standard on Aircraft Hangars | P
NFPA 410 | Standard on Aircraft Maintenance | P
NFPA 422 | Guide for Aircraft Accident/Incident Response Assessment | P
NFPA 423 | Standard for Construction and Protection of Aircraft Engine Test Facilities | P
NFPA 495 | Explosive Materials Code | P
NFPA 498 | Standard for Safe Havens and Interchange Lots for Vehicles Transporting Explosives | R
NFPA 505 | Fire Safety Standard for Powered Industrial Trucks Including Type Designations, Areas of Use, Conversions, Maintenance, and Operations | P
NFPA 520 | Standard on Subterranean Spaces | P
NFPA 551 | Guide for the Evaluation of Fire Risk Assessments | P
NFPA 600 | Standard on Industrial Fire Brigades | R
NFPA 601 | Standard for Security Services in Fire Loss Prevention | R
NFPA 701 | Standard Methods of Fire Tests for Flame Propagation of Textiles and Films | P
NFPA 750 | Standard on Water Mist Fire Protection Systems | P
NFPA 804 | Standard for Fire Protection for Advanced Light Water Reactor Electric Generating Plants | P
NFPA 805 | Performance-Based Standard for Fire Protection for Light Water Reactor Electric Generating Plants | P
NFPA 806 | Performance Based Standard for Fire Protection for Advanced Nuclear Reactor Electric Generating Plants | N
NFPA 850 | Recommended Practice for Fire Protection for Electric Generating Plants and High Voltage Direct Current Converter Stations | P
NFPA 851 | Recommended Practice for Fire Protection for Hydroelectric Generating Plants | P
NFPA 853 | Standard for the Installation of Stationary Fuel Cell Power Systems | P
NFPA 900 | Building Energy Code | P
NFPA 914 | Code for Fire Protection of Historic Structures | C
NFPA 1003 | Standard for Airport Fire Fighter Professional Qualifications | P
NFPA 1035 | Standard for Professional Qualifications for Public Fire and Life Safety Educator | P
NFPA 1150 | Standard on Foam Chemicals for Fires in Class A Fuels | P
NFPA 1201 | Standard for Providing Emergency Services to the Public | C
NFPA 1250 | Recommended Practice in Emergency Service Organization Risk Management | P
NFPA 1407 | Standard for Fire Service Rapid Intervention Crews | N
NFPA 1410 | Standard on Training for Initial Emergency Scene Operations | P
NFPA 1452 | Guide for Training Fire Service Personnel to Conduct Dwelling Fire Safety Surveys | P
NFPA 1581 | Standard on Fire Department Infection Control Program | P
NFPA 1600 | Standard on Disaster/Emergency Management and Business Continuity Programs | C
NFPA 1620 | Recommended Practice for Pre-Incident Planning | C
NFPA 1801 | Standard on Thermal Imagers for the Fire Service | N
NFPA 1931 | Standard for Manufacturer's Design of Fire Department Ground Ladders | P
NFPA 1932 | Standard on Use, Maintenance, and Service Testing of In-Service Fire Department Ground Ladders | P
NFPA 1936 | Standard on Powered Rescue Tools | P
NFPA 1952 | Standard on Surface Water Operations Protective Clothing and Equipment | N
NFPA 1977 | Standard on Protective Clothing and Equipment for Wildland Fire Fighting | C
NFPA 2010 | Standard for Fixed Aerosol Fire-Extinguishing Systems | P
* P = Partial revision; W = Withdrawal; R = Reconfirmation; N = New; C = Complete Revision.

Dated: October 22, 2008.
Patrick Gallagher,
Deputy Director.

[FR Doc. E8-25695 Filed 10-27-08; 8:45 am]

BILLING CODE 3510-13-P